U.S. COMMISSION ON CIVIL RIGHTS

Sunshine Act Meetings

AGENCY: Commission on the Social Status of Black Men and Boys (CSSBMB), U.S. Commission on Civil Rights.

ACTION: Notice of CSSBMB public briefing.

DATES: Friday, July 8, 2022. 1:00 p.m.-3:30 p.m. EDT.

ADDRESSES: The Briefing will take place virtually via YouTube: https://www.youtube.com/user/USCCR/videos.

FOR FURTHER INFORMATION CONTACT: Dr. Marvin Williams, 202-339-2371,pressbmb@usccr.gov.

SUPPLEMENTARY INFORMATION: In accordance with Public Law 116-156, 1134 Stat. 700 (2020), the Commission on the Social Status of Black Men and Boys (CSSBMB) will hold a public briefing focused on preventative strategies to mitigate the social disparities of Black men in America.

This briefing is open to the public via livestream on the Commission on Civil Rights' YouTube Page at https://www.youtube.com/user/USCCR/ videos. (Streaming information subject to change.) Public participation is available for the event with view access, along with an audio option for listening. Computer assisted real-time transcription (CART) will be provided. The web link to access CART (in English) on Friday, July 8, 2022, is https://www.steamtext.net/player?event=USCCR (*subject to change). Please note that CART is text-only translation that occurs in real time during the meeting and is not an exact transcript.

* Date and meeting details are subject to change. For more information on the CSSBMB or the upcoming public briefing, please visit CSSBMB's website at www.usccr.gov/about/CSSBMB.

Briefing Agenda

I. Opening Remarks by CSSBMB Chair, Frederica S. Wilson

II. Call to Order

III. Approval of Agenda

IV. Roundtable Discussion With Expert Panelists *

A. The Honorable Frederica Wilson, Congresswoman (FL-24) and CSSBMB Chair

B. The Honorable Jamaal Bowman, Congressman (NY-16) and CSSBMB Commissioner (Roundtable Moderator)

C. Dr. Gregory C. Hutchings Jr.—Alexandria City Schools

D. CSSBMB Commissioner Jack Brewer—The Brewer Group

E. Dr. Robert Simmons—Head of Social Impact and STEM Programs

F. Troy Vincent—Vice President of Operations for the NFL

G. Timothy Belcher Sr.—Special Advisor to the City Manager

V. Adjourn Briefing

Dated: June 30, 2022.
David Mussatt,
Supervisory Chief, Regional Programs Unit.

[FR Doc. 2022-14382 Filed 6-30-22; 4:15 pm]

BILLING CODE P